DEPARTMENT OF JUSTICE

Notice of Lodging of Consent Decree Under the Comprehensive Environmental Response, Compensation, and Liability Act (CERCLA)

Notice is hereby given that on July 6, 2012, a proposed Complaint was filed and a proposed Consent Decree lodged in the case of United States and the State of Missouri v. Kellwood Company, Civil Action No. 12-1216, in the United States District Court for the Eastern District of Missouri.

The United States and the State filed a Complaint alleging that Defendant Kellwood Company is liable pursuant to Sections 106 and 107 of CERCLA in connection with Operable Units 2 and 6 of the Riverfront Superfund Site (“Site”) located in and around New Haven, Missouri. EPA issued a Record of Decision on May 13, 2011 selecting a remedy to address tetrachloroethene (“PCE”) contamination at Operable Units 2 and 6 of the Site. The proposed Consent Decree requires Kellwood Company to perform the remedial action for Operable Units 2 and 6 in accordance with the Record of Decision and an attached Statement of Work. The proposed Consent Decree also requires Kellwood Company to reimburse all of EPA's past costs and the future costs to be incurred by EPA and the State for Operable Units 2 and 6.

For thirty (30) days after the date of this publication, the Department of Justice will receive comments relating to the Consent Decree. Comments should be addressed to the Assistant Attorney General, Environment and Natural Resources Division, and either emailed to pubcomment-ees.enrd@usdoj.gov or mailed to P.O. Box 7611, U.S. Department of Justice, Washington, DC 20044-7611, and should refer to United States and the State of Missouri v. Kellwood Company, D.J. Ref. No. 90-11-2-08795/1.

During the public comment period, the Consent Decree may be examined on the following Department of Justice Web site, to http://www.usdoj.gov/enrd/Consent_Decrees.html. A copy of Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $41.00 (25 cents per page reproduction cost) payable to the U.S. Treasury or, if requesting by email or fax, forward a check in that amount to the Consent Decree Library at the address given above. In requesting a copy exclusive of exhibits, please enclose a check in the amount of $13.00 (25 cents per page reproduction cost) payable to the U.S. Treasury.

Robert E. Maher, Jr.,
Assistant Section Chief, Environmental Enforcement Section, Environment and Natural Resource Division.

[FR Doc. 2012-17054 Filed 7-12-12; 8:45 am]

BILLING CODE 4410-15-P